FEDERAL HOUSING FINANCE BOARD

[No. 2002-N-5]

Notice of Public Hearing on Federal Home Loan Banks of Cincinnati and Chicago Capital Plans

AGENCY: Federal Housing Finance Board.

ACTION: Notice of public hearing.

SUMMARY: Notice is hereby given that the Federal Housing Finance Board (Finance Board) will hold the following public hearing:

Time and Date of Hearing: Wednesday, June 5, 2002 at 10 am EDT.

Place: Cleveland Airport Marriott, 4277 West 150th Street, Cleveland, OH 44135.

Agenda: The boards of directors of the Cincinnati and Chicago FHLBanks have submitted proposed capital plans which differ from most other plans. The Finance Board wishes an opportunity to better understand the judgments and decisions made by the boards of each Bank in designing the proposed plans. In particular, the Finance Board expects to learn more about: The business strategies embodied in the plans; the methods used by each board to solicit member views; how the details of the proposed plans will be disclosed to members; and how each plan will operate, if approved and implemented. The Finance Board also hopes to learn how each Bank's board of directors will monitor and maintain capital sufficiency, if its proposed plan is approved.

Only members of the board of directors of each Bank, as designated by the chair of each board, may testify in the hearing. Written submissions are welcome from all other interested parties. All testimony, including the written statements of each Bank, must be submitted in electronic format to the Finance Board no later than 48 hours before the hearing. In addition, 100 copies of testimony submitted for the record and of each Bank's statement must be delivered to the Cleveland Airport Marriott, Attention: Federal Housing Finance Board/June 5, 2002, before the start of the hearing.

Status: This hearing will be open to the public.

ADDRESSES: Send testimony and comments to Elaine L. Baker, Secretary to the Board, by electronic mail to bakere@fhfb.gov, or by regular mail to the Federal Housing Finance Board, 1777 F Street, NW., Washington, DC 20006. Comments will be available for public inspection at this address. The 100 copies of testimony for the hearing must be delivered to the Cleveland Airport Marriott, Attention: Federal Housing Finance Board/June 5, 2002.

FOR FURTHER INFORMATION CONTACT: Elaine L. Baker, Secretary to the Board, 202-408-2837, or Thomas D. Casey, Counsel to the Chairman, 202-408-2957.

Dated: May 22, 2002.
James L. Bothwell,
Managing Director.

[FR Doc. 02-13281 Filed 5-23-02; 8:45 am]

BILLING CODE 6725-01-P